DEPARTMENT OF HEALTH AND HUMAN SERVICES

Centers for Disease Control and Prevention

[60Day-02-31]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Breast, Colorectal, and Prostate Cancer Patterns of Care, Reoccurrence, and Survival (CBOs)—New—National Center for Chronic Disease Prevention and Health Promotion (NCCDPHP), Centers for Disease Control and Prevention (CDC). Invasive cancers of the breast, colon and rectum, and prostate impose a substantial burden of disease in the United States (U.S.) and are expected to account for approximately 42 percent of the estimated 1.3 million invasive cancers that will be diagnosed during 2002. Breast and colorectal cancers are particularly of high public health importance because of current widespread activities in place for early diagnosis and treatment.

Even though these cancers are of high public importance, statewide central cancer registries are not likely to capture complete follow-up information or detailed information on treatment modalities other than surgery. Also, data on extent of disease at diagnosis are often limited. In order to expand the uses of their data to include survival and patterns of care studies and clinical research, registries may need to collect additional information. Through re-abstracting representative samples of cases from population-based, central cancer registries from 1997, this pattern of care study will assess the quality of stage and treatment data. Estimates of the proportions of patients who received the standard of care for localized breast, localized prostate, and stage III colon cancers will be determined as well. Registries participating in the study will send data to the CDC for some analyses. Data for the patterns of care study and for the CONCORD Study, a collaborative project between the CDC and cancer registries in the U.S. and Europe, will be re-abstracted from medical records at the same time. The annualized estimated cost to respondents is $2,056,000.

Respondents | Number of respondents | Number of responses/respondent | Average burden/response (in hours) | Total burden (in hours)
Physicians (M.D., D.O.) | 4440 | 1 | 15/60 | 1,110
Total |  |  |  | 1,110

Dated: March 18, 2002.
Nancy Cheal,
Acting Associate Director for Policy, Planning and Evaluation, Centers for Disease Control and Prevention.

[FR Doc. 02-6925 Filed 3-21-02; 8:45 am]

BILLING CODE 4163-18-P